ENVIRONMENTAL PROTECTION AGENCY

40 CFR Part 52

[EPA-R09-OAR-2005-0557d; FRL-8052-9]

Partial Removal of Direct Final Rule Revising the California State Implementation Plan, Yolo-Solano Air Quality Management District

AGENCY: Environmental Protection Agency (EPA).

ACTION: Partial removal of direct final rule.

SUMMARY: On February 1, 2006 (71 FR 5172), EPA published a direct final approval of a revision to the California State Implementation Plan (SIP). This revision concerned Yolo-Solano Air Quality Management District (YSAQMD) Rule 2.21, Organic Liquid Storage and Transfer. The direct final action was published without prior proposal because EPA anticipated no adverse comment. The direct final rule stated that if adverse comments were received by March 3, 2006, EPA would publish a timely withdrawal in the Federal Register. EPA received timely adverse comments. Consequently, with this action we are removing the direct final approval of YSAQMD rule 2.21. EPA will either address the comments in a subsequent final action based on the parallel proposal also published on February 1, 2006 (71 FR 5211), or propose an alternative action. As stated in the parallel proposal, EPA will not institute a second comment period on a subsequent final action.

On February 1, 2006 (71 FR 5174), EPA also published an interim final determination to stay CAA section 179 sanctions associated with YSAQMD Rule 2.21 based on our concurrent proposal to approve the State's SIP revision as correcting deficiencies that initiated sanctions. This interim final determination and its stay of sanctions is not affected by this partial removal of the direct final action.

Ventura County Air Pollution Control District Rule 74.14, the other rule approved in the February 1, 2006 direct final action, is not affected by this partial removal and is incorporated into the SIP as of the effective date of the February 1, 2006 direct final action.

DATES: This action is effective April 11, 2006.

ADDRESSES: EPA has established docket number EPA-R09-OAR-2005-0557 for this action. The index to the docket is available electronically at www.regulations.gov and in hard copy at EPA Region IX, 75 Hawthorne Street, San Francisco, California. While all documents in the docket are listed in the index, some information may be publicly available only at the hard copy location (e.g., copyrighted material), and some may not be publicly available in either location (e.g., CBI). To inspect the hard copy materials, please schedule an appointment during normal business hours with the contact listed in the FOR FURTHER INFORMATION CONTACT section.

FOR FURTHER INFORMATION CONTACT: Jerald S. Wamsley, EPA Region IX, at either (415) 947-4111, or wamsley.jerry@epa.gov.

SUPPLEMENTARY INFORMATION:

List of Subjects in 40 CFR Part 52

Environmental protection, Air pollution control, Intergovernmental relations, Ozone, Reporting and recordkeeping requirements, Volatile organic compounds.

Dated: March 21, 2006.
Wayne Nastri,
Regional Administrator, Region IX.

Part 52, chapter I, title 40 of the Code of Federal Regulations is amended as follows:

PART 52—[AMENDED]

1. The authority citation for part 52 continues to read as follows:

Authority: 42 U.S.C. 7401 et seq.

Subpart F—California

§ 52.220 [Amended]

2. Section 52.220 is amended by removing and reserving paragraph (c)(342)(i)(A).

[FR Doc. 06-3403 Filed 4-10-06; 8:45 am]

BILLING CODE 6560-50-P